NATIONAL SCIENCE FOUNDATION

Sunshine Act Meetings

The National Science Board (NSB) hereby gives notice of the scheduling of meetings of the Committee on Awards and Facilities (A&F) and of the Board for the transaction of National Science Board business pursuant to the National Science Foundation Act and the Government in the Sunshine Act.

TIME AND DATE: A&F meeting—Tuesday, July 22, 2025, from 1 p.m.-2:10 p.m. Eastern.

NSB meeting—Wednesday, July 23, 2025, from 9:25 a.m.-3:50 p.m. Eastern.

PLACE: The meetings will be held by videoconference through NSF headquarters, 2415 Eisenhower Avenue, Alexandria, VA 22314. The open session of the meeting will be webcast live on the NSB YouTube channel. The link is: https://youtube.com/live/9Os9sAAcsjM?feature=share.

STATUS: Some of the sessions will be open and others will be closed to the public. See the full description below.

MATTERS TO BE CONSIDERED:

Tuesday, July 22, 2025

A&F Committee Closed Session 1:00-2:10 p.m.

• Chair's remarks on the agenda

• Information Item: Legend-1000

• Discussion and vote on National Geophysical Facility (NGF) Operations and Maintenance Award

Wednesday, July 23, 2025

Plenary Board Meeting

Closed Session: 9:25-10:35 a.m.

• Acting Chair's Opening Remarks about the agenda

○ Approval of Closed Plenary minutes—May 2025

• Merit Review Report Discussion

• NSF 2026-2030 Strategic Plan Update

• A&F Report and Action Item—

○ Information item: Legend 1000

○ NGF Operations and Maintenance Award

Plenary Board Meeting

Open Session: 10:45 a.m.-12:00 p.m.

• Acting Chair's Remarks

○ Acknowledgements

○ Activities Report

○ Approval of Open Plenary Minutes—December 2024 and May 2025

• Approval of NSB's 2026 Meeting Calendar

• Panel—The Power of Science and Technology Research: Driving American Innovation

○ A.N. Sreeram, Dow

○ Bill Daly, NVIDIA

○ Wen Hsieh, Matter Venture Partners

○ Moderator, NSB Member Ryan Panchadsaram

Plenary Board Meeting

Open Session: 1:00-2:25 p.m.

• NSB Honorary Awards: Award Presentation and Panel Discussion

○ Robert W. Conn, Vannevar Bush Award

○ Rocco Mennella and Jane Hemelt, NSB Science and Society Award

○ Moderator, NSB External Engagement Chair Dorota Grejner-Brzenzinska

• Indicators 2026: Discovery Report, Brief, and Fact Sheet

• Graduate Research Fellowship Update

• Gold Standard Science Update

• Merit Review Digest Overview

Plenary Board Meeting

Executive Closed Session: 2:35-3:50 p.m.

• Acting Chair's Opening Remarks about the agenda

○ Approval of closed Executive Plenary Closed minutes—May 2025

• NSF Staffing

• NSF Relocation

• NSF Director Search

• NSB Election of Board Chair, possible election of Vice Chair

PORTIONS OPEN TO THE PUBLIC:

Wednesday, July 23, 2025

10:45 a.m.-12:00 p.m. Plenary NSB

1:00 p.m.-2:25 p.m. Plenary NSB

PORTIONS CLOSED TO THE PUBLIC:

Tuesday, July 22, 2025

1:00 p.m.-2:10 p.m. A&F

Wednesday, July 23, 2025

9:25 a.m.-10:35 a.m. Plenary NSB

2:35 p.m.-3:50 p.m. Executive Plenary NSB

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from the times noticed by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Ann Bushmiller,
Senior Counsel to the National Science Board.

[FR Doc. 2025-13591 Filed 7-17-25; 11:15 am]

BILLING CODE 7555-01-P